FEDERAL COMMUNICATIONS COMMISSION

47 CFR Part 7

[WT Docket No. 96-198; FCC 99-181; FR ID 160641]

Access to Telecommunications Service, Telecommunications Equipment & Customer Premises Equipment by Persons With Disabilities

AGENCY: Federal Communications Commission.

ACTION: Correcting amendment.

SUMMARY: In this document, the Federal Communications Commission revises the final rules portion of a Federal Register document published on November 19, 1999. The published document inadvertently listed an erroneous cross-reference. This document corrects the final regulations.

DATES: Effective August 16, 2023.

FOR FURTHER INFORMATION CONTACT: Joshua Mendelsohn, Consumer and Governmental Affairs Bureau, (202) 559-7304, or email: Joshua.Mendelsohn@fcc.gov.

SUPPLEMENTARY INFORMATION: This is a summary of the Commission's document, FCC 99-181, published November 19, 1999, (64 FR 63235). This document corrects a cross-reference error to 47 CFR 7.5(a)(1) in 47 CFR 7.5(b)(2) to cross-reference 47 CFR 7.5(b)(1).

List of Subjects in 47 CFR Part 7

Communications equipment, Individuals with disabilities, Telecommunications.

Accordingly, 47 CFR part 7 is corrected by making the following correcting amendment:

PART 7—ACCESS TO VOICEMAIL AND INTERACTIVE MENU SERVICES AND EQUIPMENT BY PEOPLE WITH DISABILITIES

1. The authority citation for part 7 continues to read as follows:

Authority: 47 U.S.C. 151-154, 208, 255, and 303(r).

2. Amend § 7.5 by revising paragraph (b)(2) to read as follows:

§ 7.5 General Obligations.

(b) * * *

(2) Whenever the requirements of paragraph (b)(1) of this section are not readily achievable, the service provider shall ensure that the service is compatible with existing peripheral devices or specialized customer premises equipment commonly used by individuals with disabilities to achieve access, if readily achievable.

* * * * *

Federal Communications Commission.
Aleta Bowers,
Information Management Specialist, Office of the Secretary.

[FR Doc. 2023-17485 Filed 8-15-23; 8:45 am]

BILLING CODE 6712-01-P